DEPARTMENT OF TRANSPORTATION

Pipeline and Hazardous Materials Safety Administration

[Docket ID PHMSA-2009-0060]

Pipeline Safety: Workshop on New Pipeline Construction

AGENCY: Pipeline and Hazardous Materials Safety Administration (PHMSA), DOT.

ACTION: Notice of workshop.

SUMMARY: Recent new pipeline construction inspections by PHMSA have identified issues regarding procedures and inspection of pipeline coating, welding, and general pipeline construction practices. Many of the issues required immediate response from operators to avoid impacting long term pipeline integrity before the pipeline was put into service. PHMSA is leading a workshop cosponsored by the National Association of Pipeline Safety Representatives (NAPSR), the Federal Energy Regulatory Commission (FERC), and the Canadian National Energy Board (NEB), on new pipeline construction in established rights-of-way to allow stakeholders of the pipeline safety community to learn about and discuss these construction issues and current practices used to resolve issues and ensure pipeline safety.

DATES: The workshop will be held on April 23, 2009. Name badge pick-up and on-site registration will be available starting at 7:30 a.m. with the workshop taking place from 8 a.m. until approximately 5 p.m.. Refer to the meeting Web site for updated agenda and times at https://primis.phmsa.dot.gov/meetings/Mtg58.mtg. Please note that all workshop presentations will be available on the meeting Web site within 30 days following the workshop.

ADDRESSES: The workshop will be held at the Omni Fort Worth Hotel, 1300 Houston Street, Fort Worth, TX 76102. Hotel reservations under the “U.S. DOT Pipeline Construction” room block for the nights of April 22-23, 2009, can be made at 1-817-535-6664. A daily rate of $149.00 is available. The meeting room will be posted at the hotel on the day of the workshop.

FOR FURTHER INFORMATION CONTACT: Elizabeth Komiskey at (202) 288-1818, or by e-mail at elizabeth.komiskey@dot.gov.

SUPPLEMENTARY INFORMATION: Registration: Members of the public may attend this free workshop. To help assure that adequate space is provided, all attendees are encouraged to register for the workshop at https://primis.phmsa.dot.gov/meetings/Mtg58.mtg. Hotel reservations must be made by contacting the hotel directly.

Comments: Members of the public may also submit written comments, either before or after the workshop. Comments should reference Docket ID PHMSA-2009-0060. Comments may be submitted in the following ways:

• E-Gov Web Site: http://www.regulations.gov. This site allows the public to enter comments on any Federal Register notice issued by any agency. Follow the instructions for submitting comments.

• Fax: 1-202-493-2251

• Mail: Docket Management System, U.S. Department of Transportation, 1200 New Jersey Avenue, SE., Room W12-140, Washington, DC 20590.

• Hand Delivery: DOT Docket Management System, Room W12-140, on the ground floor of the West Building, 1200 New Jersey Avenue, SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov. Note: Comments will be posted without changes or edits to http://www.regulations.gov including any personal information provided. Please see the Privacy Act heading in the Regulatory Analyses and Notices section of the SUPPLEMENTARY INFORMATION for additional information.

Privacy Act Statement: Anyone may search the electronic form of all comments received for any of our dockets. You may review DOT's complete Privacy Act Statement in the Federal Register published April 11, 2000 (65 FR 19477).

Information on Services for Individuals with Disabilities: For information on facilities or services for individuals with disabilities, or to request special assistance at the meeting, please contact Elizabeth Komiskey at (202) 288-1818, or by e-mail at elizabeth.komiskey@dot.gov by April 15, 2009.

Issue Description: The pipeline industry is experiencing unparalleled growth driven by the need to satisfy the Nation's energy demand and bring new sources of supply to the market. In the conduct of its oversight of these increased activities, PHMSA inspections of new pipeline projects have discovered a number of issues that could have a clear impact on the integrity of the pipeline.

During the 2008 pipeline construction season, PHMSA inspectors discovered issues requiring immediate operator remediation prior to the pipeline being placed in service or requiring pressure reduction to assure pipeline integrity. Issues discovered during PHMSA inspections included poor quality control and procedures for welding, coating, and materials; as well as inadequate operator inspection and general construction practices. PHMSA developed this workshop in collaboration with our State partners, FERC and NEB to inform the public, alert the industry, review lessons learned from inspections, and to improve new pipeline construction practices prior to the 2009 construction season.

Due to time constraints, this workshop will focus solely on natural gas transmission and hazardous liquid pipelines being constructed on established rights-of-way and will not include discussion on property rights, permitting or siting issues.

Preliminary Workshop Agenda

The workshop will include:

(1) Quality Control and Inspection,

(2) Welding,

(3) Coating,

(4) Materials, and

(5) Best practices for pipeline construction.

Refer to the meeting Web site for a more detailed agenda: https://primis.phmsa.dot.gov/meetings/Mtg58.mtg.

Issued in Washington, DC, on March 19, 2009.
Jeffrey D. Wiese,
Associate Administrator for Pipeline Safety.

[FR Doc. E9-6690 Filed 3-25-09; 8:45 am]

BILLING CODE 4910-60-P